DEPARTMENT OF COMMERCE

National Oceanic and Atmospheric Administration

50 CFR Part 660

[Docket No. 080408542-8615-01]

RIN 0648-XK69

Fisheries Off West Coast States; Pacific Coast Groundfish Fishery; Pacific Whiting Allocation

AGENCY: National Marine Fisheries Service (NMFS), National Oceanic and Atmospheric Administration (NOAA), Commerce.

ACTION: Reapportionment of surplus Pacific whiting allocation; request for comments.

SUMMARY: NMFS has determined that 35,000 metric tons (mt) of the 97,669 mt shore-based sector allocation would not be used by December 31, 2008. Therefore, NMFS has reapportioned the surplus whiting to the other sectors in the fishery.

DATES: The 20,000 mt reallocation was effective from 0001 local time (l.t.) November 6, 2008, and the 15,000 mt allocation was effective from 1400 l.t. November 18, 2008, until the December 31, 2008, unless modified, superseded or rescinded. Comments will be accepted through December 16, 2008.

ADDRESSES: You may submit comments, identified by the RIN number 0648- XK69, by any one of the following methods:

• Electronic Submissions: Submit all electronic public comments via the Federal eRulemaking Portal http://www.regulations.gov

• Fax: 206-526-6736, Attn: Becky Renko

• Mail: D. Robert Lohn, Administrator, Northwest Region, NMFS, 7600 Sand Point Way NE, Seattle, WA 98115-0070, Attn: Becky Renko

Instructions: All comments received are a part of the public record and will generally be posted to http://www.regulations.gov without change. All personal identifying information (for example, name, address, etc.) voluntarily submitted by the commenter may be publicly accessible. Do not submit confidential business information, or otherwise sensitive or protected information.

NMFS will accept anonymous comments. Attachments to electronic comments will be accepted in Microsoft Word, Excel, WordPerfect, or Adobe PDF file formats only.

FOR FURTHER INFORMATION CONTACT: Fisheries, Northwest Region, NMFS, 7600 Sand Point Way NE, Seattle, WA 98115 0070; tel: 206-526-6110; fax: 206-526-6736; or, e-mail: becky.renko@noaa.gov.

SUPPLEMENTARY INFORMATION: This action is authorized by regulations implementing the Pacific Coast Groundfish Fishery Management Plan (FMP), which governs the groundfish fishery off Washington, Oregon, and California.

The 2008 non-tribal commercial OY for whiting is 232,545 mt. Regulations at 50 CFR 660.323(a)(2) divide the commercial whiting optimum yield (OY) into separate allocations for the catcher/processor, mothership, and shore-based sectors. The catcher/processor sector is composed of vessels that harvest and process whiting. The mothership sector is composed of catcher vessels that harvest whiting and mothership vessels that process, but do not harvest whiting. The shore-based sector is composed of vessels that harvest whiting for delivery to land-based processors. Each commercial sector receives a portion of the commercial OY. For 2008 the catcher/processors received 34 percent (79,065 mt), the motherships received 24 percent (55,811 mt), and the shore-based sector received 42 percent (97,669 mt).

The best available information on November 5, 2008, indicated that 20,000 mt of the 97,669 mt shore-based sector(s allocation would not be used by December 31, 2008. Therefore, on November 5, 2008 NMFS reapportioned the surplus whiting. Such reapportionments are disbursed to the other sectors in the same proportion as each sector's allotted portion of the commercial OY. Facsimiles directly to fishing businesses and postings on the Northwest Regions internet site were used to provide actual notice to the affected fishers.

The best available information on November 18, 2008, indicated that an additional 15,000 mt of the revised 77,669 mt shore-based sector's allocation would not be used by December 31, 2008. Therefore an additional surplus of 15,000 mt of whiting was reapportioned from the shore-based sector to the catcher/processor sector at 1400 local time November 18, 2008. Facsimiles directly to fishing businesses and postings on the Northwest Regions internet site were used to provide actual notice to the affected fishers.

NMFS Action

This action announces the reapportionment of 20,000 mt of whiting from the shore-based sector to the catcher/processor and mothership sectors at 0001 local time November 6, 2008. The revised Pacific whiting allocations by sector for 2008 as of November 6, 2008 were: catcher/processor 90,789 mt, mothership 64,087 mt, and shore-based 77,669 mt. This action also announces the reapportionment of 15,000 mt of whiting from the shore-based sector to the catcher/processor sector at 1400 local time November 18, 2008. The revised Pacific whiting allocations by sector as of November 18, 2008 are: catcher/processor 105,789 mt, mothership 64,087 mt, and shore-based 62,669 mt.

Classification

The determinations to take these actions were based on the most recent data available. The aggregate data upon which the determinations were based are available for public inspection at the Office of the Regional Administrator (see ADDRESSES) during business hours.

These actions are authorized by the regulations implementing the FMP. The Assistant Administrator for Fisheries, NMFS, finds good cause to waive the requirement to provide prior notice and opportunity for comment on these actions pursuant to 5 U.S.C. 553 (3)(b)(B), because providing prior notice and opportunity would be impracticable. It would be impracticable because of the need for immediate action. NMFS has determined that providing an opportunity for prior notice and comment would be impractical and contrary to public interest. Delay of this action would leave whiting unharvested. In addition, the catcher/processors and motherships needed an immediate reallocation if they were to keep their workers employed. For these same reasons the agency finds good cause to waive the 30-day delay in effectiveness. These actions are taken under the authority of 50 CFR 660.323(c), and are exempt from review under Executive Order 12866. Actual notice of the reapportionments was provided to the affected fishers.

Authority: 16 U.S.C. 1801 et seq.

Dated: November 25, 2008.
Emily H. Menashes,
Acting Director, Office of Sustainable Fisheries, National Marine Fisheries Service.

[FR Doc. E8-28468 Filed 11-28-08; 8:45 am]

BILLING CODE 3510-22-S